SURFACE TRANSPORTATION BOARD

[Docket No. FD 36820]

Puerto Verde Industrial Railroad, LLC—Operation Exemption—Line in Maverick County, Tex.

Puerto Verde Industrial Railroad, LLC (PVIR), a noncarrier, has filed a verified notice of exemption under 49 CFR 1150.31 to operate approximately 2.43 miles of private railroad track located within the property of a former coal mine in Maverick County, Tex. (the Line). The former coal mine is owned by a corporate affiliate of PVIR, Farming Hydrasource, LLC (Farming Hydrasource), and is being converted into a rail-served industrial park.

According to the verified notice, Farming Hydrasource and PVIR will enter into a lease and operating agreement giving PVIR control of the Line. PVIR states that, once the exemption becomes effective, it will provide common carrier switching services and transloading for customers that locate to the industrial park.

PVIR states that no interchange commitments are being imposed on its operations. PVIR also certifies that its projected annual revenues will not exceed those that would qualify it as a Class III rail carrier and will not exceed $5 million.

The earliest this transaction may be consummated is January 1, 2025, the effective date of the exemption. If the verified notice contains false or misleading information, the exemption is void ab initio. Petitions to revoke the exemption under 49 U.S.C. 10502(d) may be filed at any time. The filing of a petition to revoke will not automatically stay the effectiveness of the exemption. Petitions for stay must be filed no later than December 24, 2024 (at least seven days before the exemption becomes effective).

All pleadings, referring to Docket No. FD 36820, must be filed with the Surface Transportation Board either via e-filing on the Board's website or in writing addressed to 395 E Street SW, Washington, DC 20423-0001. In addition, a copy of each pleading must be served on PVIR's representative, Justin J. Marks, Clark Hill, PLC, 1001 Pennsylvania Ave. NW, Suite 1300 South, Washington, DC 20004.

According to PVIR, this action is categorically excluded from environmental review under 49 CFR 1105.6(c) and from historic preservation reporting requirements under 49 CFR 1105.8(b).

Board decisions and notices are available at www.stb.gov.

Decided: December 13, 2024.
By the Board, Scott M. Zimmerman, Acting Director, Office of Proceedings.
Jeffrey Herzig,
Clearance Clerk.

[FR Doc. 2024-30082 Filed 12-17-24; 8:45 am]

BILLING CODE 4915-01-P